DEPARTMENT OF DEFENSE

Department of the Air Force

[Docket ID: USAF-2008-0029]

Privacy Act of 1974; System of Records

AGENCY: Department of the Air Force, DoD.

ACTION: Notice to alter a system of records.

SUMMARY: The Department of the Air Force proposes to alter a system of records to its inventory of record systems subject to the Privacy Act of 1974 (5 U.S.C. 552a), as amended.

DATES: The proposed action will be effective on December 12, 2008 unless comments are received that would result in a contrary determination.

ADDRESSES: Send comments to the Air Force Privacy Act Officer, Office of Warfighting Integration and Chief Information Officer, SAF/XCX, 1800 Air Force Pentagon, Suite 220, Washington, DC 20330-1800.

FOR FURTHER INFORMATION CONTACT: Mr. Kenneth Brodie at (703) 696-7557.

SUPPLEMENTARY INFORMATION: The Department of the Air Force's notices for systems of records subject to the Privacy Act of 1974 (5 U.S.C. 552a), as amended, have been published in the Federal Register and are available from the address above.

The proposed systems reports, as required by 5 U.S.C. 552a(r) of the Privacy Act, were submitted on October 24, 2008, to the House Committee on Oversight and Government Reform, the Senate Committee on Homeland Security and Governmental Affairs, and the Office of Management and Budget (OMB) pursuant to paragraph 4c of Appendix I to OMB Circular No. A-130, ‘Federal Agency Responsibilities for Maintaining Records About Individuals,” dated February 8, 1996, (February 20, 1996, 61 FR 6427).

Dated: November 3, 2008.
Morgan E. Frazier,
Alternate OSD Federal Register Liaison Officer, Department of Defense.

F051 AFJA D

System name:

Patent Infringement and Litigation Records (March 14, 2002, 67 FR 11467).

Changes:

* * * * *

System location:

Delete entry and replace with “Department of the Air Force, 1501 Wilson Blvd, AFLOA/JACQ, Suite 606, Arlington, VA 22209-2103. Department of the Air Force, 2240 B Street, AFMC LO/JAZ, Room 100, Wright-Patterson Air Force Base, OH 45433-7902.”

Categories of individuals covered by the system:

Delete entry and replace with “Individuals who have alleged unlicensed use of their patents, trademarks, or copyrights by the Air Force, or who have brought suit against the United States concerning patent, trademark, copyright, or other intellectual property matters.”

Categories of records in the system:

Delete entry and replace with “All documents necessary to adjudicate allegations made by individuals, to include but not limited to: individual's name, letters and memoranda; messages; forms; reports; contracts; bids; photographs; legal opinions; pleadings; infringement studies; validity studies; procurement information; license agreements; contract determinations, witness statements, and engineering and technical reports.”

Authority for maintenance of the system:

Delete entry and replace with “10 U.S.C. 8013, Secretary of the Air Force; 10 U.S.C. 8037, Judge Advocate General, Deputy Judge Advocate General: Appointment and duties; 10 U.S.C. 2386, Copyrights, patents, designs; 15 U.S.C. 1122, Liability of the United States for trademark infringement; 22 U.S.C. 2356, Foreign Assistance, acquisition; 28 U.S.C. 1491, Claims against the United States; 28 U.S.C. 1498, Patent and copyright cases; 35 U.S.C. 183, Right to compensation for secrecy order matters; [and] Department of Defense FAR Supplement Subpart 227.70, Infringement claims, licenses, and assignments and E.O. 9397(SSN).”

Purpose(s):

Delete entry and replace with “To enable the United States and its officers and employees to investigate claims and/or defend the legal interests of the United States because of claims for compensation and litigation involving patent, trademark copyright, and other intellectual property matters.”

Routine uses of records maintained in the system, including categories of users and the purposes of such uses:

After the first paragraph, delete entry and replace with “To the U.S. Patent and Trademark Office to the extent such disclosures are necessary for the processing and verification of patent applications.

To the Department of Justice for the purpose of asserting and defending patent infringement action.

The DoD ‘Blanket Routine Uses’ published at the beginning of the Air Force's compilation of systems of records notices apply to this system.”

* * * * *

Storage:

Delete entry and replace with “Paper records in file folders and electronic storage media.”

Retrievability:

Delete entry and replace with “Retrieved by name”.

Safeguards:

Delete entry and replace with “Records are accessed by authorized personnel as necessary to accomplish their official duties. Paper records are stored in locked containers and/or secured facilities. Computer records have access controls, to include password protection and encryption.”

Retention and disposal:

Delete and replace with “Retained in office files for up to three years after the case is closed, then retired to the Washington National Records Center, Washington, DC 20409, for retention up to twenty years. Paper records are destroyed by tearing into pieces, shredding, pulping, macerating, or burning. Computer records are destroyed by deleting, erasing, degaussing, or by overwriting.”

System manager(s) and address:

Delete entry and replace with “The Judge Advocate General, Headquarters United States Air Force, 1420 Air Force Pentagon, Washington, DC 20330-1420, or designee.”

Notification procedure:

Delete entry and replace with “Individuals seeking to determine whether information about themselves is contained in this system should address written inquiries to The Judge Advocate General, Headquarters, United States Air Force, 1420 Air Force Pentagon, Washington, DC 20330-1420.

Requests should include name and proof of identity, such as driver's license or other government issued ID card.”

Record access procedures:

Delete entry and replace with “Individuals seeking access to information about themselves in this system should address written inquiries to The Judge Advocate General, Headquarters United States Air Force, 1420 Air Force Pentagon, Washington, DC 20330-1420.

Requests should include name and proof of identity, such as driver's license or other government issued ID card.”

Contesting record procedures:

Delete entry and replace with “The Air Force rules for accessing records, and for contesting contents and appealing initial agency determinations are published in Air Force Instruction 33-332; 32 CFR part 806b; or may be obtained from the system manager.”

Record source categories:

Delete entry and replace with “Information received from individuals, government agencies, court documents, corporations (non-contractors) and from source documents.”

* * * * *

F051 AFJA D

System name:

Patent Infringement and Litigation Records.

System location:

Department of the Air Force, 1501 Wilson Blvd, AFLOA/JACQ, Suite 606, Arlington, VA 22209-2103.

Department of the Air Force, 2240 B Street, AFMC LO/JAZ, Room 100, Wright-Patterson Air Force Base, OH 45433-7902.

Categories of individuals covered by the system:

Individuals who have alleged unlicensed use of their patents, trademarks, or copyrights by the Air Force, or who have brought suit against the United States concerning patent, trademark, copyright, or other intellectual property matters.

Categories of records in the system:

All documents necessary to adjudicate allegations made by individuals, to include but not limited to: individual's name, letters and memoranda; messages; forms; reports; contracts; bids; photographs; legal opinions; pleadings; infringement studies; validity studies; procurement information; license agreements; contract determinations, witness statements, and engineering and technical reports.

Authority for maintenance of the system:

10 U.S.C. 8013, Secretary of the Air Force; 10 U.S.C. 8037, Judge Advocate General, Deputy Judge Advocate General: Appointment and duties; 10 U.S.C. 2386, Copyrights, patents, designs; 15 U.S.C. 1122, Liability of the United States for trademark infringement; 22 U.S.C. 2356, Foreign Assistance, acquisition; 28 U.S.C. 1491, Claims against the United States; 28 U.S.C. 1498, Patent and copyright cases; 35 U.S.C. 183, Right to compensation for secrecy order matters; [and] Department of Defense FAR Supplement Subpart 227.70, Infringement claims, licenses, and assignments and E.O. 9397 (SSN).

Purpose(s):

To enable the United States and its officers and employees to investigate claims and/or defend the legal interests of the United States because of claims for compensation and litigation involving patent, trademark copyright, and other intellectual property matters.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the U.S. Patent and Trademark Office to the extent such disclosures are necessary for the processing and verification of patent applications.

To the Department of Justice for the purpose of asserting and defending patent infringement action.

The DoD `Blanket Routine Uses' published at the beginning of the Air Force's compilation of systems of records notices apply to this system.

Policies and practices for storing, retrieving, accessing, retaining, and disposing of records in the system:

Storage:

Paper records in file folders and electronic storage media.

Retrievability:

Retrieved by name.

Safeguards:

Records are accessed by authorized personnel as necessary to accomplish their official duties. Paper records are stored in locked containers and/or secured facilities. Computer records have access controls, to include password protection and encryption.

Retention and disposal:

Retained in office files for up to three years after the case is closed, then retired to the Washington National Records Center, Washington, DC 20409, for retention up to twenty years. Paper records are destroyed by tearing into pieces, shredding, pulping, macerating, or burning. Computer records are destroyed by deleting, erasing, degaussing, or by overwriting.

System manager(s) and address:

The Judge Advocate General, Headquarters United States Air Force, 1420 Air Force Pentagon, Washington, DC 20330-1420, or designee.

Notification procedure:

Individuals seeking to determine whether information about themselves is contained in this system should address written inquiries to The Judge Advocate General, Headquarters, United States Air Force, 1420 Air Force Pentagon, Washington, DC 20330-1420.

Requests should include name and proof of identity, such as driver's license or other government issued ID card.

Record access procedures:

Individuals seeking access to information about themselves in this system should address written inquiries to The Judge Advocate General, Headquarters United States Air Force, 1420 Air Force Pentagon, Washington, DC 20330-1420.

Requests should include name and proof of identity, such as driver's license or other government issued ID card.

Contesting record procedures:

The Air Force rules for accessing records, and for contesting contents and appealing initial agency determinations are published in Air Force Instruction 33-332; 32 CFR part 806b; or may be obtained from the system manager.

Record source categories:

Information received from individuals, government agencies, court documents, corporations (non-contractors) and from source documents.

Exemptions claimed for the system:

None.

[FR Doc. E8-26774 Filed 11-10-08; 8:45 am]

BILLING CODE 5001-06-P